CONSUMER PRODUCT SAFETY COMMISSION

16 CFR Chapter II

[Docket No. CPSC-2012-0034]

Petition Requesting Commission Action Regarding Crib Bumpers

AGENCY: U.S. Consumer Product Safety Commission.

ACTION: Petition for rulemaking.

SUMMARY: The U.S. Consumer Product Safety Commission (“Commission”) has received a petition (CPSC-2012-0034), requesting that the Commission initiate rulemaking to distinguish and regulate “hazardous pillow-like” crib bumpers from “non-hazardous traditional” crib bumpers under sections 7 and 9 of the Consumer Product Safety Act (“CPSA”). The Commission invites written comments concerning the petition.

DATES: The Office of the Secretary must receive comments on the petition by August 24, 2012.

ADDRESSES: You may submit comments, identified by Docket No. CPSC-2012-0034, by any of the following methods:

Electronic Submissions

Submit electronic comments in the following way:

Federal eRulemaking Portal: http://www.regulations.gov. Follow the instructions for submitting comments.

To ensure timely processing of comments, the Commission is no longer accepting comments submitted by electronic mail (email), except through www.regulations.gov.

Written Submissions

Submit written submissions in the following way:

Mail/Hand delivery/Courier (for paper, disk, or CD-ROM submissions), preferably in five copies, to: Office of the Secretary, U.S. Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information electronically. Such information should be submitted in writing.

Docket: For access to the docket to read background documents or comments received, go to: http://www.regulations.gov.

FOR FURTHER INFORMATION CONTACT: Rockelle Hammond, Office of the Secretary, U.S. Consumer Product Safety Commission, Room 820, 4330 East West Highway, Bethesda, MD 20814; telephone (301) 504-6833.

SUPPLEMENTARY INFORMATION: The Commission has received correspondence from the Juvenile Products Manufacturers Association (JPMA), (“petitioner”), dated May 9, 2012, requesting that the Commission initiate rulemaking to distinguish and regulate “hazardous pillow-like” crib bumpers from “non-hazardous traditional” crib bumpers under sections 7 and 9 of the Consumer Product Safety Act (“CPSA”). The Commission is docketing this request as a petition under the Consumer Product Safety Act. 15 U.S.C. 2056 and 2058. Petitioner states that, despite information to the contrary regarding the safety of traditional crib bumpers, some are advocating banning bumpers altogether from the marketplace. Petitioner believes that banning traditional crib bumpers may lead to caregivers adding unsafe soft bedding to cribs to serve as a protective barrier from the tight dimensions and hard wooden surface of the crib slats. Petitioner includes a third party review of previous studies of crib bumper pads as support of the fact that claims of increased risk to infants from traditional crib bumper use are unfounded. Petitioner also includes a copy of proposed ASTM performance requirements that petitioner believes provide a reasonable basis for a mandatory crib bumper performance standard.

By this notice, the Commission seeks comments concerning this petition. Interested parties may obtain a copy of the petition by writing or calling the Office of the Secretary, U.S. Consumer Product Safety Commission, Room 820, 4330 East West Highway, Bethesda, MD 20814; telephone (301) 504-7923. A copy of the petition also will be made available for viewing under “Supporting and Related Materials” in www.regulations.gov under this docket number.

Dated: June 18, 2012.
Todd A. Stevenson,
Secretary, U.S. Consumer Product Safety Commission.

[FR Doc. 2012-15328 Filed 6-22-12; 8:45 am]

BILLING CODE 6355-01-P